ENVIRONMENTAL PROTECTION AGENCY

[EPA-HQ-OAR-2021-0123; FRL-9730-01-OMS]

Information Collection Request Submitted to OMB for Review and Approval; Comment Request; NESHAP for Chemical Manufacturing Area Sources (Renewal)

AGENCY: Environmental Protection Agency (EPA).

ACTION: Notice.

SUMMARY: The Environmental Protection Agency (EPA) has submitted an information collection request (ICR), NESHAP for Chemical Manufacturing Area Sources (EPA ICR Number 2323.08, OMB Control Number 2060-0621), to the Office of Management and Budget (OMB), for review and approval in accordance with the Paperwork Reduction Act. This is a proposed extension of the ICR, which is currently approved through May 31, 2022. Public comments were previously requested, via the Federal Register, on April 13, 2021 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before May 9, 2022.

ADDRESSES: Submit your comments, referencing Docket ID Number EPA-HQ-OAR-2021-0123, online using www.regulations.gov (our preferred method) or by mail to: EPA Docket Center, Environmental Protection Agency, Mail Code 2821T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division (D243-05), Office of Air Quality Planning and Standards, U.S. Environmental Protection Agency, Research Triangle Park, North Carolina 27711; telephone number: (919) 541-0833; email address: ali.muntasir@epa.gov.

SUPPLEMENTARY INFORMATION: Supporting documents, which explain in detail the information that the EPA will be collecting, are available in the public docket for this ICR. The docket can be viewed online at https://www.regulations.gov, or in person, at the EPA Docket Center, WJC West Building, Room 3334, 1301 Constitution Ave. NW, Washington, DC. The telephone number for the Docket Center is 202-566-1744. For additional information about EPA's public docket, visit: http://www.epa.gov/dockets.

Abstract: The National Emission Standards for Hazardous Air Pollutants (NESHAP) for Chemical Manufacturing Area Sources were proposed on October 6, 2008; promulgated on October 29, 2009; and amended on December 21, 2012. There are nine area source categories in the chemical manufacturing sector: Agricultural Chemicals and Pesticides Manufacturing, Cyclic Crude and Intermediate Production, Industrial Inorganic Chemical Manufacturing, Industrial Organic Chemical Manufacturing, Inorganic Pigments Manufacturing, Miscellaneous Organic Chemical Manufacturing, Plastic Materials and Resins Manufacturing, Pharmaceutical Production, and Synthetic Rubber Manufacturing. These regulations apply process vents, storage tanks, equipment leaks, wastewater systems, transfer operations, and heat exchange systems at affected sources in each area source category and are combined in one subpart. New facilities include those that either commenced construction or reconstruction after the date of proposal. This information is being collected to assure compliance with 40 CFR part 63, subpart VVVVVV.

Form Numbers: None.

Respondents/affected entities: Private-sector area sources involved in the chemical manufacturing of agricultural chemicals and pesticides, cyclic crude and intermediates, industrial inorganic chemicals, industrial organic chemicals, inorganic pigments, miscellaneous organic chemicals, plastic materials and resins, pharmaceutical production, and synthetic rubber.

Respondent's obligation to respond: Mandatory (40 CFR part 63, subpart VVVVVV).

Estimated number of respondents: 548 (total).

Frequency of response: Semiannually.

Total estimated burden: 10,500 hours (per year). Burden is defined at 5 CFR 1320.3(b).

Total estimated cost: $2,830,000 (per year), which includes $1,590,000 in annualized capital/startup and/or operation & maintenance costs.

Changes in the Estimates: There is an increase in burden from the most-recently approved ICR as currently identified in the OMB Inventory of Approved Burdens. The adjustment increase in burden from the most-recently approved ICR is not due to any program changes, but is due to an increase in the number of new sources. This ICR reflects an additional 10 respondents per year, assuming continued industry growth. The increase in the number of respondents also results in an increase in the operation and maintenance (O&M) costs.

Courtney Kerwin,
Director, Regulatory Support Division.

[FR Doc. 2022-07458 Filed 4-7-22; 8:45 am]

BILLING CODE 6560-50-P